DEPARTMENT OF COMMERCE

Technology Administration

Proposed Information Collection; Comment Request; Commercial Space Launch Range User Requirements

ACTION: Notice.

SUMMARY: The Department of Commerce (DOC), as part of its continuing effort to reduce paperwork and respondent burden, invites the general public and other Federal agencies to comment on the continuing and proposed information collection, as required by the Paperwork Reduction Act of 1995, Pub. L. 104-13 (44 U.S.C. 3506(c)(2)(A)).

DATES: Written comments must be submitted on or before March 25, 2003.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information should be directed to the attention of Paula Trimble, Technology Policy Analyst, Office of Space Commercialization, (202) 482-4574. In addition, written comments may be sent via e-mail to SpaceInfo@ta.doc.gov.

SUPPLEMENTARY INFORMATION:

I. Abstract

The information collected would allow the DOC Office of Space Commercialization (DOC/OSC) and the Federal Aviation Administration (FAA) to follow the terms of a Memorandum of Agreement (MOA) with the U.S. Air Force to ensure consideration of commercial space launch range users' needs in the Air Force's range modernization planning. Air Force endorsement of this arrangement, and industry support for the process expressed through FAA's FACA-compliant Commercial Space Transportation Advisory Committee (COMSTAC), are highly significant, because this is the first time these parties have all agreed to a single formal communication channel for commercial range requirements. Based on experience with response to a preliminary October 2001 Federal Register (FR) information request, respondents to subsequent biannual FR solicitations are expected to be less than ten in number and to include the three companies that currently launch vehicles from the two major federal ranges, one or more new companies that may be planning to initiate launch services there, and one or more non-profit or state government entities electing to comment on range needs.

II. Method of Collection

Responses would normally be submitted as hard copy to the DOC/OSC and FAA docket addresses specified in the Federal Register announcement. Only for responses sent to FAA would the option be available to submit comments electronically, via the Internet to the FAA website address specified in the announcement.

III. Data

OMB Number: 0692-0009.

Form Numbers: None.

Type of Review: Regular submission.

Affected Public: Business or other for-profit organizations; not-for-profit institutions; state, local, or tribal government.

Estimated Number of Respondents: 7.

Estimated Time Per Response: 10 hours.

Estimated Total Annual Respondent Burden Hours: 70.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: January 17, 2003.
Gwellnar Banks,
Management Analyst, Office of the Chief Information Officer.

[FR Doc. 03-1587 Filed 1-23-03; 8:45 am]

BILLING CODE 3510-18-P